FEDERAL ELECTION COMMISSION

11 CFR Part 110

[Notice 2002-6]

Candidate Debates

AGENCY: Federal Election Commission.

ACTION: Petition for Rulemaking; Notice of Availability.

SUMMARY: On April 10, 2002, the Commission received a Petition for Rulemaking from several major news organizations that are listed below. The petitioners urge the Commission to amend its rules to explicitly state that the sponsorship by a news organization (or a related trade association) of a debate between political candidates does not constitute an illegal corporate campaign contribution or expenditure in violation of the Federal Election Campaign Act of 1971, as amended (“the Act”) and that the Commission would have no jurisdiction over such sponsorship. This petition is available for inspection in the Commission's Public Records Office through its Faxline service, and on the Commission's Web site at www.fec.gov.

DATES: Statements in support of or in opposition to the petition must be filed on or before June 10, 2002.

ADDRESSES: All comments should be addressed to Ms. Rosemary C. Smith, Assistant General Counsel, and must be submitted in either written or electronic form. Electronic mail comments should be sent to debate02noa@fec.gov. Written comments should be sent to the Federal Election Commission, 999 E Street, NW., Washington, DC 20463. Faxed comments should be sent to (202) 219-3923, with printed copy follow-up to insure legibility. Commenters sending comments by electronic mail must include their full name, electronic mail address and postal service address within the text of their comments. Comments that do not contain the full name, electronic mail address and postal service address of the commenter will not be considered. The Commission will make every effort to have public comments posted on its Web site within ten business days of the close of the comment period.

FOR FURTHER INFORMATION CONTACT: Ms. Rosemary C. Smith, Assistant General Counsel, or Mr. Michael Marinelli, Staff Attorney, 999 E Street, NW., Washington, D.C. 20463, (202) 694-1650 or (800) 424-9530.

SUPPLEMENTARY INFORMATION: On April 10, 2002, the Commission received a Petition for Rulemaking from CBS Broadcasting Inc.; American Broadcasting Companies Inc.; Belo Corp.; Cox Enterprises, Inc.; Gannett Co., Inc.; the National Association of Broadcasters; National Broadcasting Co., Inc.; News America Incorporated; The New York Times Company; Post-Newsweek Stations, Inc.; the Radio and Television News Directors Association; the Society of Professional Journalists; and Tribune Company regarding the Commission's candidate debate regulations at 11 CFR 110.13. Paragraph (c) of section 110.13 states, inter alia, that “[f]or all debates, staging organization(s) must use pre-established objective criteria to determine which candidates may participate in a debate.” Id. The petition asserts that this regulation should be repealed. It argues that any regulation of the sponsorship by news organization (or a related trade association) is contrary to the clear intent of the U.S. Congress, irreconcilable with other FEC decisions, in conflict with the regulatory decisions of the Federal Communications Commission and unconstitutional. The petition urges the Commission to draft new regulations that explicitly declare such sponsorship is legal under the Act and to refrain from any further regulatory jurisdiction over the sponsorship of a candidate debate by a news organization or trade association of members of the press.

Copies of the petitions are available for public inspection in the Commission's Public Records Office, 999 E Street, NW., Washington, DC 20463, Monday through Friday between the hours of 9 a.m. and 5 p.m. Copies of the petitions can also be obtained at any time of the day and week from the Commission's home page at www.fec.gov, or from the Commission's Faxline. To obtain copies of the petitions from Faxline, dial (202) 501-3413 and follow the Faxline service instructions. Request document # to receive the petition.

All statements in support of or in opposition to the petition should be addressed to Ms. Rosemary C. Smith, Assistant General Counsel, and must be submitted in either written or electronic form. Written comments should be sent to the Commission's postal service address: Federal Election Commission, 999 E Street, NW., Washington, DC 20463. Faxed comments should be sent to (202) 219-3923. Commenters submitting faxed comments should also submit a printed copy to the Commission's postal service address to ensure legibility. Comments may also be sent by electronic mail to debates02noa@fec.gov. Commenters sending comments by electronic mail must include their full name, electronic mail address and postal service address within the text of their comments. All comments, regardless of form, must be submitted by June 10, 2002. Commenters are strongly encouraged to send comments electronically to ensure timely receipt and consideration.

Consideration of the merits of the petition will be deferred until the close of the comment period. If the Commission decides that the petition has merit, it may begin a rulemaking proceeding. Any subsequent action taken by the Commission will be announced in the Federal Register.

Dated: May 6, 2002.
David M. Mason,
Chairman, Federal Election Commission.

[FR Doc. 02-11628 Filed 5-8-02; 8:45 am]

BILLING CODE 6715-01-P